DEPARTMENT OF THE INTERIOR

National Park Service

[NPS-WASO-NAGPRA-NPS0025846; PPWOCRADN0-PCU00RP14.R50000]

Notice of Inventory Completion: State Historic Preservation Office, Lansing, MI

AGENCY: National Park Service, Interior.

ACTION: Notice.

SUMMARY: The State Historic Preservation Office (SHPO), Michigan State Housing Development Authority, has completed an inventory of human remains and associated funerary objects in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Michigan State Historic Preservation Office. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the State Historic Preservation Office at the address in this notice by August 13, 2018.

ADDRESSES: Dean L. Anderson, State Historic Preservation Office, Michigan State Housing Development Authority, 735 East Michigan Avenue, Lansing, MI 48909, telephone: (517) 373-1618, email andersond15@michigan.gov.

SUPPLEMENTARY INFORMATION: Notice is here given in accordance with the Native American Graves Protection and Repatriation Act (NAGPRA), 25 U.S.C. 3003, of the completion of an inventory of human remains and associated funerary objects under the control of the State Historic Preservation Office, Lansing, MI. The human remains and associated funerary objects were removed from a highway construction project on US-12, Lenawee County, MI.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made during 1993-1995 by the former Office of the State Archaeologist (OSA) professional staff and by a physical anthropologist. According to documents held by the SHPO, in 1995 the OSA initiated consultation on the human remains and funerary objects with the Citizen Potawatomi Nation, Oklahoma; Forest County Potawatomi Community, Wisconsin; Hannahville Indian Community, Michigan; Pokagon Band of Potawatomi Indians, Michigan and Indiana; and Prairie Band Potawatomi Nation (previously listed as the Prairie Band of Potawatomi Nation, Kansas).

History and Description of the Remains

In the 1920s, human remains representing nine individuals were removed from a highway construction project in Lenawee County, MI. In 1925, the remains were re-interred on the grounds of the Walker Tavern historic site, located a few miles from the highway construction project. The Walker Tavern structure was built around 1832, as a farmhouse, and then became a tavern and inn along the Detroit to Chicago stagecoach route. In 1921, Frederic Hewitt converted the tavern into a museum, and in 1965, the structure was sold to the Michigan Department of Natural Resources. The Parks and Recreation Division of the Michigan Department of Conservation operated the historic site until 1975, when the Michigan Historical Museum, which was part of the Michigan Historical Center (MHC), took responsibility for the Walker Tavern museum and its collections.

In the mid-1990s, Barbara Mead, Assistant State Archaeologist, did the NAGPRA reporting for the Office of the State Archaeologist (OSA) and for the state museum. At that time, the state museum turned over to Ms. Mead a single cranium and associated funerary objects that she determined had been part of the group of human remains that was re-interred on the grounds of the Walker Tavern site in 1925.

In 2009, the Department of History, Arts, and Libraries, which included both the OSA and the state museum, was eliminated. The state museum was moved into the Department of Natural Resources, and the OSA was moved into the Michigan State Housing Development Authority. Soon after that, the OSA was eliminated, and the archaeology staff were moved into the SHPO. Consequently, the archaeological collections, including the Walker Tavern materials, are now held by the SHPO.

The human remains in the Walker Tavern collection include a single cranium with no teeth present and lacking the mandible. The cranium was examined by a physical anthropologist who stated that the individual was approximately 10-15 years of age, and that no determination of sex or ethnic identity of the individual could be made. No known individuals were identified.

When the state museum assumed responsibility for the Walker Tavern collection in 1975, the cranium was recorded under Michigan Department of Conservation accession number A1253. The state museum assigned catalog number FA-155-75 to the cranium.

The state museum also cataloged a group of 18 funerary objects associated with the human remains disinterred during road construction in the 1920s. The 18 associated funerary objects are: One pewter spoon, one bottle, one oval stone, one deer mandible, three loose teeth, one lot of fur pieces with tassels wrapped in porcupine quill, one silver armband, one wooden bowl or toy canoe, one lot of wool scraps, one lot of linen scraps, one silver armband, one copper or brass kettle fragment, one iron knife blade, one lot of very small bone chips, one lot of shell and glass beads and one pewter bowl.

Based on the funerary objects, it is estimated that the original interment of the objects and the human remains took place between approximately 1760 and 1810. A typescript in the MHC Walker Tavern files identified as an article in the Lenawee County Exponent dated November 22, 1923, describes the discovery of Indian graves and artifacts during road construction work in the Irish Hills area. The article mentions some of the same funerary objects described above and associated with the cranium. This assemblage of funerary objects, including trade silver and beads, together with the cranium, represent a Native American interment.

The inventory that Assistant State Archaeologist Barbara Mead compiled in 1995 included the following information on cultural affiliation: Probably Potawatomi. Early in the eighteenth century, the Potawatomi, Miami, Ottawa, Huron/Wyandotte and Kickapoo were present in southern Michigan. Most of the reports for tribes other than the Potawatomi are from the pre-1720 era. By the 1760s, the Potawatomi territory included Lenawee County; no other tribes seemed to be present, except perhaps as travelers or temporary residents. (Cleland, Charles E., 1992, Rites of Conquest, the University of Michigan Press; Tanner, Helen Hornbeck (ed.), 1987, Atlas of Great Lakes Indian History, University of Oklahoma Press; Trigger, Bruce G. (ed.), 1978, Handbook of North American Indians, Vol. 15: Northeast, Smithsonian Institution).

Determinations Made by the State Historic Preservation Office

Officials of the State Historic Preservation Office have determined that:

• Pursuant to 25 U.S.C. 3001(9), the human remains described in this notice represent the physical remains of one individual of Native American ancestry.

• Pursuant to 25 U.S.C. 3001(3)(A), the 18 objects described in this notice are reasonably believed to have been placed with or near individual human remains at the time of death or later as part of the death rite or ceremony.

• Pursuant to 25 U.S.C. 3001(2), there is a relationship of shared group identity that can be reasonably traced between the Native American human remains and associated funerary objects and the Citizen Potawatomi Nation, Oklahoma; Forest County Potawatomi Community, Wisconsin; Hannahville Indian Community, Michigan; Pokagon Band of Potawatomi Indians, Michigan and Indiana; and Prairie Band Potawatomi Nation (previously listed as the Prairie Band of Potawatomi Nation, Kansas).

Additional Requestors and Disposition

Lineal descendants or representatives of any Indian tribe or Native Hawaiian organization not identified in this notice that wish to request transfer of control of these human remains and associated funerary objects should submit a written request with information in support of the request to Dean L. Anderson, State Historic Preservation Office, Michigan State Housing Development Authority, 735 East Michigan Avenue, P.O. Box 30044, Lansing, MI 48909, telephone (517) 373-1618, email andersond15@michigan.gov, by August 13, 2018. After that date, if no additional requestors have come forward, transfer of control of the human remains and associated funerary objects to the Citizen Potawatomi Nation, Oklahoma; Forest County Potawatomi Community, Wisconsin; Hannahville Indian Community, Michigan; Pokagon Band of Potawatomi Indians, Michigan and Indiana; and Prairie Band Potawatomi Nation (previously listed as the Prairie Band of Potawatomi Nation, Kansas) may proceed.

The State Historic Preservation Office is responsible for notifying the Citizen Potawatomi Nation, Oklahoma; Forest County Potawatomi Community, Wisconsin; Hannahville Indian Community, Michigan; Pokagon Band of Potawatomi Indians, Michigan and Indiana; and Prairie Band Potawatomi Nation (previously listed as the Prairie Band of Potawatomi Nation, Kansas) that this notice has been published.

Dated: June 21, 2018.
Melanie O'Brien,
Manager, National NAGPRA Program.

[FR Doc. 2018-14905 Filed 7-11-18; 8:45 am]

BILLING CODE 4312-52-P